DEPARTMENT OF ENERGY

Federal Energy Regulatory Commission

Combined Notice of Filings #1

Take notice that the Commission received the following electric corporate filings:

Docket Numbers: EC15-72-000.

Applicants: RE Columbia, LLC, Recurrent Energy, LLC, Canadian Solar Inc.

Description: Joint Application for Authorization for Disposition of Jurisdictional Facilities and Requests for Waivers, Confidential Treatment, and Expedited Consideration of RE Columbia, LLC, et al.

Filed Date: 2/10/15.

Accession Number: 20150210-5233.

Comments Due: 5 p.m. ET 3/3/15.

Take notice that the Commission received the following electric rate filings:

Docket Numbers: ER15-643-001.

Applicants: PJM Interconnection, L.L.C.

Description: Tariff Amendment per 35.17(b): Response to Deficiency Letter Dated 01/27/2015 in Docket No. ER15-643-000 to be effective 3/1/2015.

Filed Date: 2/11/15.

Accession Number: 20150211-5165.

Comments Due: 5 p.m. ET 3/4/15.

Docket Numbers: ER15-1021-000.

Applicants: Nevada Power Company.

Description: § 205(d) rate filing per 35.13(a)(2)(iii): Rate Schedule Nos. 76 & 77 Concurrence in SCE Amended_Restated RS Nos. 424 & 267 to be effective 1/1/2015.

Filed Date: 2/11/15.

Accession Number: 20150211-5003.

Comments Due: 5 p.m. ET 3/4/15.

Docket Numbers: ER15-1022-000.

Applicants: San Diego Gas & Electric Company.

Description: Application for One Time Waiver of San Diego Gas & Electric Company.

Filed Date: 2/10/15.

Accession Number: 20150210-5237.

Comments Due: 5 p.m. ET 3/3/15.

Docket Numbers: ER15-1023-000.

Applicants: Arizona Public Service Company.

Description: § 205(d) rate filing per 35.13(a)(2)(iii): Service Agreement No. 193—Amendment 3, ANPP Hassayampa—Administrative Change to be effective 2/11/2015.

Filed Date: 2/11/15.

Accession Number: 20150211-5189.

Comments Due: 5 p.m. ET 3/4/15.

Docket Numbers: ER15-1024-000.

Applicants: Zone One Energy, LLC.

Description: Initial rate filing per 35.12 Baseline New to be effective 4/15/2015.

Filed Date: 2/11/15.

Accession Number: 20150211-5239.

Comments Due: 5 p.m. ET 3/4/15.

Docket Numbers: ER15-1025-000.

Applicants: PJM Interconnection, L.L.C.

Description: § 205(d) rate filing per 35.13(a)(2)(iii): Revised SA No. 3341 among PJM and Southeastern Power Administration to be effective 1/1/2014.

Filed Date: 2/11/15.

Accession Number: 20150211-5241.

Comments Due: 5 p.m. ET 3/4/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2015.
Nathaniel J. Davis, Sr.,
Deputy Secretary.

[FR Doc. 2015-03259 Filed 2-17-15; 8:45 am]

BILLING CODE 6717-01-P